DEPARTMENT OF THE INTERIOR

Fish and Wildlife Service

Intent To Prepare Comprehensive Conservation Plans and Associated Environmental Documents for Des Lacs, Upper Souris, and J. Clark Salyer National Wildlife Refuges in Northern North Dakota

AGENCY: Fish and Wildlife Service, Interior.

ACTION: Notice of intent.

SUMMARY: The U.S. Fish and Wildlife Service intends to gather information necessary to prepare Comprehensive Conservation Plans and associated environmental documents for Des Lacs, Upper Souris, and J. Clark Salyer National Wildlife Refuges near Minot, North Dakota. The Service is issuing this notice in compliance with its policy to advise other organizations and the public of its intentions and to obtain suggestions and information on the scope of issues to be considered in the planning process.

DATES: Written comments should be received by April 30, 2003.

ADDRESSES: Comments and requests for more information should be sent to: Bridget McCann, Planning Team Leader, PO Box 25486, Denver Federal Center, Denver, CO 80225-0486; Fax (303) 236-4792; E-mail bridget_mccann@fws.gov or, Toni Griffin, Planning Team Leader, PO Box 25486, Denver Federal Center, Denver, CO 80225-0486; Fax (303) 236-4792; E-mail toni_griffin@fws.gov.

FOR FURTHER INFORMATION CONTACT: Bridget McCann, Planning Team Leader, PO Box 25486, Denver Federal Center, Denver, CO 80225-0486; Fax (303) 236-4792; E-mail bridget_mccann@fws.gov.

SUPPLEMENTARY INFORMATION: The Service has initiated comprehensive conservation planning for Des Lacs, Upper Souris, and J. Clark Salyer National Wildlife Refuges for the conservation and enhancement of their natural resources. These Refuges are located in the Souris River watershed of northern North Dakota. Des Lacs National Wildlife Refuge (NWR) encompasses more than 19,500 acres on the Des Lacs River, a tributary to the Souris River, in Ward and Burke Counties, and borders Saskatchewan Province. Upper Souris NWR encompasses 32,000 acres along the Souris River in Renville and Ward Counties. J. Clark Salyer NWR encompasses 58,700 acres along the Souris River in Bottineau and McHenry Counties, and borders Manitoba Province.

All three Refuges were established in 1935 by Executive Order as “* * * refuge[s] and breeding ground[s] for migratory birds and other wildlife * * *” under the Migratory Bird Conservation Act. During the comprehensive planning process, management goals, objectives, and strategies will be developed to carry out the purposes of the Refuges and to comply with laws and policies governing refuge management and public use of refuges. The three Refuges discussed here are open to public uses.

The Service requests input as to which issues affecting management or public use should be addressed during the planning process. The Service is especially interested in receiving public input in the following areas:

—What do you value most about these Refuges?

—What problems or issues do you see affecting management or public use of these Refuges?

—What changes, if any, would you like to see in the management of these Refuges?

The Service has provided the above questions for your optional use. The Service has no requirement that you provide information. The Planning Team developed these questions to facilitate gathering information about individual issues and ideas. Comments received by the Planning Team will be used as part of the planning process.

Opportunities for public input will also be provided at public meetings during the week of March 24, 2003. Exact dates and times for these public meetings are yet to be determined, but will be announced via local media.

All information provided voluntarily by mail, phone, or at public meetings (e.g., names, addresses, letters of comment, input recorded during meetings) becomes part of the official public record. If requested under the Freedom of Information Act by a private citizen or organization, the Service may provide copies of such information.

The environmental review of this project will be conducted in accordance with the requirements of the National Environmental Policy Act of 1969, as amended (42 U.S.C. 4321 et seq.), NEPA Regulations (40 CFR parts 1500-1508), other appropriate Federal laws and regulations, Executive Order 12996, the National Wildlife Refuge System Improvement Act of 1997, and Service policies and procedures for compliance with those regulations.

Dated: December 4, 2002.
Ralph O. Morgenweck,
Regional Director, Denver, Colorado.

[FR Doc. 03-1068 Filed 1-16-03; 8:45 am]

BILLING CODE 4310-55-P